DEPARTMENT OF THE TREASURY

Office of Foreign Assets Control

31 CFR Part 594

Publication of Global Terrorism Sanctions Regulations Web General Licenses 30 and 31

AGENCY: Office of Foreign Assets Control, Treasury.

ACTION: Publication of web general licenses.

SUMMARY: The Department of the Treasury's Office of Foreign Assets Control (OFAC) is publishing two general licenses (GLs) issued pursuant to the Global Terrorism Sanctions Regulations: GLs 30 and 31, each of which was previously made available on OFAC's website.

DATES: GLs 30 and 31 were issued on October 7, 2024. See SUPPLEMENTARY INFORMATION for additional relevant dates.

FOR FURTHER INFORMATION CONTACT: OFAC: Assistant Director for Licensing, 202-622-2480; Assistant Director for Regulatory Affairs, 202-622-4855; Assistant Director for Compliance, 202-622-2490; or https://ofac.treasury.gov/contact-ofac.

SUPPLEMENTARY INFORMATION:

Electronic Availability

This document and additional information concerning OFAC are available on OFAC's website: https://ofac.treasury.gov.

Background

On October 7, 2024, OFAC issued GLs 30 and 31 to authorize certain transactions otherwise prohibited by Global Terrorism Sanctions Regulations, 31 CFR part 594. Each GL was made available on OFAC's website (https://ofac.treasury.gov) when it was issued. GLs 30 and 31 each have an expiration date of November 21, 2024. The text of these GLs is provided below.

OFFICE OF FOREIGN ASSETS CONTROL

Global Terrorism Sanctions Regulations

31 CFR Part 594

GENERAL LICENSE NO. 30

Authorizing the Wind Down of Transactions Involving Certain Entities Blocked on October 7, 2024

(a) Except as provided in paragraph (b) of this general license, all transactions prohibited by the Global Terrorism Sanctions Regulations, 31 CFR part 594 (GTSR), that are ordinarily incident and necessary to the wind down of any transaction involving one or more of the following blocked persons are authorized through 12:01 a.m. eastern standard time, November 21, 2024, provided that any payment to a blocked person is made into a blocked account in accordance with the GTSR:

(1) Al Ahmar Trading Group;

(2) Al Salam Trading and Agencies General Establishment;

(3) Sabaturk Dis Ticaret Anomin Sirketi;

(4) Vivid Enerji Yatirimlari Anonim Sirketi;

(5) Investrade Portfoy Yonetimi Anomim Sirketi; or

(6) Any entity in which one or more of the above persons own, directly or indirectly, individually or in the aggregate, a 50 percent or greater interest.

(b) This general license does not authorize any transactions otherwise prohibited by the GTSR, including transactions involving any person blocked pursuant to the GTSR other than the blocked persons described in paragraph (a) of this general license, unless separately authorized.

Lisa M. Palluconi,

Acting Director, Office of Foreign Assets Control.

Dated: October 7, 2024.

OFFICE OF FOREIGN ASSETS CONTROL

Global Terrorism Sanctions Regulations

31 CFR Part 594

GENERAL LICENSE NO. 31

Authorizing Certain Transactions Related to Debt or Equity of, or Derivative Contracts Involving, Certain Entities Blocked on October 7, 2024

(a) Except as provided in paragraphs (d) and (e) of this general license, all transactions prohibited by the Global Terrorism Sanctions Regulations, 31 CFR part 594 (GTSR), that are ordinarily incident and necessary to the divestment or transfer, or the facilitation of the divestment or transfer, of debt or equity of Investrade Portfoy Yonetimi Anomim Sirketi (Investrade Portfoy), and any entity in which Investrade Portfoy owns, directly or indirectly, a 50 percent or greater interest (“Covered Debt or Equity”), to a non-U.S. person are authorized through 12:01 a.m. eastern standard time, November 21, 2024:

(b) Except as provided in paragraph (e) of this general license, all transactions prohibited by the GTSR that are ordinarily incident and necessary to facilitating, clearing, and settling trades of Covered Debt or Equity that were placed prior to 4:00 p.m. eastern daylight time, October 7, 2024, are authorized through 12:01 a.m. eastern standard time, November 21, 2024.

(c) Except as provided in paragraph (e), all transactions prohibited by the GTSR that are ordinarily incident and necessary to the wind down of derivative contracts entered into prior to 4:00 p.m. eastern daylight time, October 7, 2024, that (i) include a blocked person described in paragraph (a) of this general license as a counterparty or (ii) are linked to Covered Debt or Equity are authorized through 12:01 a.m. eastern standard time, November 21, 2024, provided that any payments to a blocked person are made into a blocked account in accordance with the GTSR.

(d) Paragraph (a) of this general license does not authorize:

(1) U.S. persons to sell, or to facilitate the sale of, Covered Debt or Equity to, directly or indirectly, any person whose property and interests in property are blocked; or

(2) U.S. persons to purchase or invest in, or to facilitate the purchase of or investment in, directly or indirectly, Covered Debt or Equity, other than purchases of or investments in Covered Debt or Equity ordinarily incident and necessary to the divestment or transfer of Covered Debt or Equity as described in paragraph (a) of this general license.

(e) This general license does not authorize any transactions otherwise prohibited by the GTSR, including transactions involving any person blocked pursuant to the GTSR, other than the blocked persons described in paragraph (a) of this general license, unless separately authorized.

Lisa M. Palluconi,

Acting Director, Office of Foreign Assets Control.

Dated: October 7, 2024.

Lisa M. Palluconi,
Acting Director, Office of Foreign Assets Control.

[FR Doc. 2024-24734 Filed 10-23-24; 8:45 am]

BILLING CODE 4810-AL-P